INTERNATIONAL TRADE COMMISSION

[Inv. No. 337-TA-517]

In the Matter of Certain Shirts with Pucker-Free Seams and Methods of Producing Same; Notice of Decision Not to Review an Initial Determination Amending the Complaint and Notice of Investigation

AGENCY: U.S. International Trade Commission.

ACTION: Notice.

SUMMARY: Notice is hereby given that the U.S. International Trade Commission has determined not to review an initial determination (ID) issued by the presiding administrative law judge (ALJ) in the above-captioned investigation amending the complaint and notice of investigation to correctly identify the asserted claims of the patents at issue and to add allegations concerning an additional related patent.

FOR FURTHER INFORMATION CONTACT: Andrea Casson, Esq., Office of the General Counsel, U.S. International Trade Commission, 500 E Street, SW., Washington, DC 20436, telephone 202-205-3104. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on August 3, 2004, based on a complaint filed by TAL Apparel Limited, TALTECH Limited, and The Apparel Group Limited (collectively “TAL.”) 69 FR 47857 (August 6, 2004.) The complaint alleges violations of section 337 in the importation into the United States, sale for importation, and/or sale within the United States after importation of certain shirts with pucker-free seams that infringe claims 1, 4, 20 and 22 of U.S. Patent No. 5,568,779 (the ‘779 patent); claims 1, 11, 19 and 26 of U.S. Patent No. 5,590,615 (the ‘615 patent); claims 1, 3, 13 and 16 of U.S. Patent No. 5,713,292 (the ‘292 patent); and claims 16, 19, 35 and 38 of U.S. Patent No. 6,0079,343 (the ‘343 patent). The complaint names as respondents Esquel Apparel, Inc. and Esquel Enterprises Limited (collectively “Esquel.”)

On September 1, 2004, TAL filed a motion to amend the complaint and notice of institution to correct the list of asserted claims as follows: (1) For the ‘779 patent, claims 1, 4, 20 and 23 are being asserted, while claim 22 is not being asserted; (2) for the ‘615 patent, claims 1, 11, 19 and 27 are being asserted, while claim 26 is not being asserted; (3) for the ‘292 patent, claims 1, 3, 13 and 15 are being asserted, while claim 16 is not being asserted; and (4) for the ‘343 patent, claims 16, 19, 35 and 37 are being asserted, while claim 38 is not being asserted. TAL also moved to amend the complaint to assert claims 39, 41, 49 and 51 of an additional related patent, U.S. Patent No. 5,775,394 (the ‘394 patent.)

The Commission investigative attorney supported the motion to amend the complaint in all respects. Esquel did not oppose the amendment of the complaint to clarify the asserted claims of the originally named patents, but it did oppose the amendment to add the allegations concerning the ‘394 patent, unless the target date for completion of the investigation were extended.

On September 15, 2004, the presiding administrative law judge issued an ID (Order No. 4) granting TAL’s motion to amend the complaint. He found that an extension of the target date is not warranted at this time. No petitions for review of the ID were filed.

This action is taken under the authority of section 337 of the Tariff Act of 1930, 19 U.S.C. 1337, and § 210.42(h) of the Commission Rules of Practice and Procedure, 19 CFR 210.42(h).

By order of the Commission.
Issued: October 4, 2004.
Marilyn R. Abbott,
Secretary to the Commission.

[FR Doc. 04-22693 Filed 10-7-04; 8:45 am]

BILLING CODE 7020-02-P